DEPARTMENT OF TRANSPORTATION

Federal Highway Administration

[Docket No. FHWA-2024-0400]

Agency Information Collection Activities: Agency Information Collection Activity Under OMB Review

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by December 31, 2025.

ADDRESSES: You may submit comments identified by DOT Docket ID Number 0400 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Eva Birk, eva.birk@dot.gov, Office of Natural Environment, Federal Highway Administration, Department of Transportation, 1200 New Jersey Ave. SE, Washington, DC 20590. Office hours are from 7 a.m. to 4 p.m., Monday through Friday, except Federal holidays.

SUPPLEMENTARY INFORMATION: FHWA published a Federal Register Notice with a 60-day public comment period on this information collection on December 3, 2024, at 89 FR 95895. The notice received one comment. This comment called for a clear grant application process in order “to improve trust between local and federal governments.” FHWA has considered this comment and will assess options to streamline the application process during the next round of funding. The burden summary provided below covers the entire 3-year PRA period and has been updated since the publication of the 60-Day Federal Register Notice to reflect a more accurate estimate of total number of applications and evaluation activities.

Title: Promoting Resilient Operations for Transformative, Efficient, and Cost-Saving Transportation (PROTECT) Competitive Grant Program and Voluntary Resilience Improvement Plans.

Background: The Infrastructure Investment and Jobs Act (IIJA) established the Promoting Resilient Operations for Transformative, Efficient, and Cost-Saving Transportation (PROTECT) Competitive Grant Program to plan for and strengthen surface transportation to be more resilient to current and future weather events, natural disasters, and changing conditions, such as severe storms, flooding, drought, levee and dam failures, wildfire, rockslides, mudslides, sea level rise, extreme weather, including extreme temperature, and earthquakes. The program includes four grant categories: Planning, Resilience Improvement, Community Resilience and Evacuation Routes, and At-Risk Coastal Infrastructure.

Summary of Information Collection Activities

For this competitive grant program, the FHWA issues Notices of Funding Opportunity (NOFO) that describe the requirements of the PROTECT Competitive Grant Program, including the criteria that will be used to evaluate applications. The NOFOs provide a description of the application requirements. Eligible applicants request PROTECT funds in the form of an electronic grant application. Additional information submissions are required for applicants who are selected for a grant (i.e., the grantees) during the grant agreement, grant implementation and evaluation phases.

Additionally, State DOTs and MPOs may develop Resilience Improvement Plans under the PROTECT Program. A Resilience Improvement Plan is a voluntary, risk-based assessment of vulnerable transportation assets in immediate and long-term transportation planning that demonstrates a systemic approach to surface transportation system resilience (23 U.S.C. 176(e)). A Resilience Improvement Plan can reduce Non-Federal match by up to 10% for both PROTECT Formula and Discretionary Grant projects (23 U.S.C. 176(e)(1)(B)). FHWA's Office of Natural Environment will continue to support ad-hoc resilience and planning technical assistance for State DOTs and MPOs on a variety of topics during the PRA covered time frame. These activities may include voluntary virtual or in-person peer exchanges. Participants choosing to enroll in a peer exchange are asked to submit a pre-event questionnaire.

Lastly, FHWA is required by 23 U.S.C. 176(f)(1) to establish effectiveness metrics and evaluation procedures for the PROTECT Discretionary Grant Program and select a representative sample of projects to evaluate with these metrics. FHWA will select a representative sample of up to 50 funded projects to evaluate their impact and effectiveness to fulfil this statutory requirement. Projects selected as part of this representative sample will have additional reporting requirements.

Burden estimates for each of these PROTECT program components are described below:

Grant Application, Agreement, Implementation and Evaluation Phase Activities

Grant Application Phase

Eligible entities that may apply for PROTECT Discretionary grants vary depending on the type of the competitive grant. Planning Grants, Resilience Improvement Grants, and Community Resilience and Evacuation Route Grants have the same statutory rules for eligible applicants. The At-Risk Coastal Infrastructure Grant category has different statutory rules for eligible applicants. During the application process applicants will provide a project narrative and budget information, Standard Form 424, and Disclosure of Lobbying Activities form (SF-LLL).

—Respondents: PROTECT Grant applicants.

—Frequency: One time per grant application.

—Estimated Average Burden per Response: 166 hours for a Planning Grant application activities, 217 hours for a Resilience Improvement Grant application, 217 hours for a Community Resilience and Evacuation Routes Grant application, and 117 hours for an At-Risk Coastal Infrastructure Grant application.

—Estimated Total Annual Burden Hours: It is expected that 600 respondents will complete approximately one application during the 3-year PRA period for an estimated total of 107,926 annual burden hours.

Grant Agreement Phase

All grant recipients must work with FHWA to develop and execute a grant agreement detailing terms and conditions for use of funds.

Respondents: All Grant Recipients.

Frequency: One time, unless a grant agreement amendment is necessary.

Estimated Burden: Approximately 30 hours per respondent. Some capital projects may need to process amendments to the grant agreement which is expected to take an additional 10-15 hours per amendment.

Grant Implementation Phase

During the grant implementation phase, the grantee completes semi-annual progress and recertification reports to ensure the project budget and schedule are maintained to the maximum extent possible, that compliance with Federal regulations are met, and the project is completed to the highest degree of quality. Post-award reporting responsibilities include Semi-Annual Performance Progress Reports (FHWA-PPR), and a financial status report called the SF-425 (also known as the Federal Financial Report or SF-FFR). Semi-Annual Project Progress Reports are submitted as an attachment to the SF-425 form. Additionally, grant recipients requesting advance or reimbursement need to provide an SF 270 and an SF 271 form, respectively. After project close and no later than 120 days after the end of the period of performance, grant recipients submit a Final Project Progress Report and Recertification, including a final Federal Financial Report (SF-425).

Respondents: All Grant recipients:

—Frequency: Semi-Annually During the period of performance; one Final Progress Report after project close.

—Estimated Burden Hours: Grantees provide a FHWA Project Progress Report (FHWA-PPR) as an attachment to their Federal Financial Report (SF 425). Approximately 1 hour for each form.

—Approximately 1 additional hour each time an SF 270 and an SF 271 are used for an advance or reimbursement.

Grant Evaluation Phase

During the evaluation phase, reporting is necessary to comply with 2 CFR 200.301, to assess program effectiveness for the Federal Government, and to provide information regarding how the project is achieving the outcomes that grantees have targeted. Grantees collect both baseline and project performance measure data unique to their project as outlined in their grant agreement, and report on their chosen performance measure(s) via an Annual Performance Report (see Grant Agreement Schedule G—Performance Measurement). Annual Performance Reports are submitted electronically to FHWA for three years post project completion for all project types, followed by a final performance report.

Respondents: All Grant Recipients:

—Frequency: Annually during a 3-year period of performance

—Estimated Burden: Approximately 2 hours per year.

Total burden hours for PROTECT Competitive Grant agreement, implementation, and evaluation phases (all recipients):

—Over the three-year PRA period, FHWA estimates that it will take approximately 42 hours to complete all the post-award activities outlined above for a Planning Grant, 96 hours to for a Resilience Improvement Grant, 96 hours for a Community Resilience and Evacuation Route Grant, and 96 hours for an At-Risk Coastal Infrastructure Grant. FHWA estimates that 200 award recipients will perform these reporting activities during the 3-year PRA period, which will result in 16,500 total burden hours.

Resilience Improvement Plans and Related Technical Assistance

Resilience Improvement Plans, resilience planning peer exchanges, and FHWA on-demand planning and resilience technical assistance are all voluntary activities completed by State DOTs and MPOs that occur on an ad-hoc frequency. Resilience Improvement Plans are estimated to require 250 hours to complete. Resilience Planning Peer Exchange pre-event questionnaires require approximately 1 hour. Information collections to support related FHWA resilience technical assistance activities will vary widely. Generally, these activities may include electronic or in-person submission of project plans and designs, draft technical materials, and PowerPoint materials from a State DOT or MPO to FHWA and a peer group. FHWA may conduct informal interviews, focus groups or additional short electronic questionnaires to support these technical assistance activities and gauge interest in future trainings and assistance offerings.

Respondents: State Departments of Transportation and Metropolitan Planning Organizations.

Frequency: One time.

Estimated Total Annual Burden Hours: It is estimated that 25 State DOTs and 25 MPOs will complete Resilience Improvement Plans during the 3-year PRA period for an estimated total of 12,500 annual burden hours. FHWA estimates that approximately 350 participants will complete a peer exchange pre-event questionnaire for an FHWA peer exchange event, resulting in an estimated total of 350 burden hours.

PROTECT Metrics and Program Evaluation Activities

A smaller number of grantees selected for further monitoring to support an FHWA Evidence Act Program Evaluation and fulfill FHWA's obligations under 23 U.S.C. 176(f)(1)(B) will need to coordinate with FHWA to provide baseline data in the pre-construction phase. These grantees will also assist FHWA in gathering annual post-construction project performance data for 3-5 years. Participants may be asked to attend interviews and focus groups to verify desktop, primary source, or field measurement data collected by FHWA. This selected sample of 50 projects will also be administered a survey via electronic form submittal. The survey is estimated to take 0.5 hours to complete. Since FHWA may allow additional projects to voluntarily participate in the survey, we are estimating a high end of survey participants with up to all 200 grantees electing to participate in the survey.

—Respondents: A representative sample of up to 50 selected grantees are expected to participate in the PROTECT Discretionary Resilience Metrics and Program Evaluation data collection.

—Frequency: One-time baseline data collection followed by annual data project monitoring with FHWA for three to five years after project completion.

—Estimated Average Burden per Response: FHWA estimates 25 hours of burden annually per selected project for data collection and coordination with FHWA for construction projects, and 6 hours of coordination needed annually for planning grants. An additional 15 hours of burden in the first year for notification, initial coordination with FHWA and baseline data collection. The evaluation team will hold quarterly update calls for each project that will take 1 hour. The one-time survey of up to 200 grantees is estimated to take 0.5 hours to complete. Projects selected for metrics monitoring will also be asked to participate in up to 2 in-depth interviews or focus groups.

—Estimated Total Annual Burden Hours: These activities are expected to have an estimated total of 2,792 annual burden hours during the PRA period.

Public Comments Invited: You are asked to comment on any aspect of this information collection, including: (1) Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: The Paperwork Reduction Act of 1995; 44 U.S.C. chapter 35, as amended; and 49 CFR 1.48.

Issued on: November 26, 2025.
Jazmyne Lewis,
Information Collection Officer.

[FR Doc. 2025-21681 Filed 11-28-25; 8:45 am]

BILLING CODE 4910-22-P